DEPARTMENT OF ENERGY

Federal Energy Regulatory Commission

[Docket No. ER01-424-001, et al.]

Pacific Gas and Electric Company, et al.; Electric Rate and Corporate Regulation Filings

January 4, 2001.

Take notice that the following filings have been made with the Commission:

1. Pacific Gas and Electric Company

[Docket No. ER01-424-001]

Take notice that on December 26, 2000, Pacific Gas and Electric Company (PG&E), tendered a filing to pass-through certain charges in conformance with the California Independent System Operator Corporation's December 15, 2000 informational filing in FERC Docket No. ER01-313-001.

PG&E requests an effective date of January 1, 2001, or the date the Commission makes effective ISO rates included in the ISO's informational filing of December 15, 2000.

Copies of this filing have been served upon the California Public Utilities Commission, all affected customers and the official service list in FERC Docket No. ER01-424-000.

Comment date: January 17, 2001, in accordance with Standard Paragraph E at the end of this notice.

2. Constellation Energy Group, Inc., Constellation Enterprises, Inc. (On Behalf of Themselves and Their Public Utility Subsidiaries), Constellation Power Source, LLC, Constellation Power Source Generation, LLC, and Calvert Cliffs Nuclear Power Plant, LLC

[Docket Nos. EC01-50-000 and ER01-824-000]

Take notice that on December 28, 2000, Constellation Energy Group, Inc. (CEG) and Constellation Enterprises, Inc., on behalf of themselves and their public utility subsidiaries, (jointly the Applicants) submitted for filing, pursuant to Section 203 of the Federal Power Act (FPA) and Part 33 of the Commission's regulations, an Application for authorization to transfer certain jurisdictional transmission facilities as part of transactions involving an intra corporate realignment, purchase by an affiliate of The Goldman Sachs Group, Inc. of an indirect ownership interest in certain jurisdictional public utilities to be owned by a to-be-formed entity, and the distribution by CEG of its shares in the new entity to the public shareholders of CEG. In addition, pursuant to Section 205 of the FPA and 18 CFR 35.16, Constellation Power Source, LLC, Constellation Power Source Generation, LLC and Calvert Cliffs Nuclear Power Plant, LLC have filed notices of succession with the Commission.

Comment date: January 18, 2001, in accordance with Standard Paragraph E at the end of this notice.

3. Xcel Energy Services Inc.

[Docket No. EC01-51-000]

Take notice that on December 29, 2000, Xcel Energy Services Inc. (Xcel Services) submitted an application pursuant to section 203 of the Federal Power Act and Part 33 of the regulations of the Federal Energy Regulatory Commission (Commission) to effect certain transactions incident to the transfer by Southwestern Public Service Company (SPS) of certain jurisdictional facilities. Xcel Services submitted the application on behalf of SPS and the affiliates of SPS that will be formed to effect the transfer of jurisdictional facilities that is the subject of the application. Xcel Services states that the transfer of jurisdictional facilities is necessary to separate the corporate ownership of SPS' generation and power marketing business from the corporate ownership of SPS' transmission and distribution business as required by retail choice laws in the states of Texas and New Mexico.

Comment date: January 19, 2001, in accordance with Standard Paragraph E at the end of this notice.

4. Mountain View Power Partners, LLC

[Docket No. EG01-93-000]

Take notice that on December 29, 2000, Mountain View Power Partners, LLC (Mountain View), whose sole member is currently SeaWest WindPower, Inc., located at 1455 Frazee Road, San Diego, California, 92108, filed with the Federal Energy Regulatory Commission an application for determination of exempt wholesale generator status pursuant to Part 365 of the Commission's regulations.

Mountain View will construct, own or lease and operate a wind-powered generating facility of approximately 44.4 MW capacity in the San Gorgonio Pass of Riverside County, California, near the City of Palm Springs. The proposed wind power plant is expected to deliver test power to the grid no later than February 15, 2001 and to commence commercial operations by May 1, 2001.

Comment date: January 25, 2001, in accordance with Standard Paragraph E at the end of this notice. The Commission will limit its consideration of comments to those that concern the adequacy or accuracy of the application.

5. Disropi, S.A.

[Docket No. EG01-94-000]

Take notice that on December 29, 2000 Disropi, S.A., a corporation (sociedad anònima) organized under the laws of Costa Rica (Applicant)1, with its principal place of business at c/o Energia Global de Costa Rica S.A., Parque Empresa Forum, Piso 1, Edificio B, Condominio No. 1, Santa Ana, Costa Rica, filed with the Federal Energy Regulatory Commission an application for determination of exempt wholesale generator status pursuant to Part 365 of the Commission's regulations.

Applicant operates an approximately 20 megawatt (net), wind powered electric power production facility located in north central Costa Rica.

Comment date: January 25, 2001, in accordance with Standard Paragraph E at the end of this notice. The Commission will limit its consideration of comments to those that concern the adequacy or accuracy of the application.

6. FirstEnergy Generation Corp.

[Docket No. EG01-95-000]

Take notice that on December 29, 2000, FirstEnergy Generation Corp. submitted an application for determination of exempt wholesale generator status pursuant to Section 32 of the Public Utility Holding Company Act of 1935 and Part 365 of the Commission's regulations.

The applicant states that it is a wholly-owned subsidiary of FirstEnergy Services Corp., and that it was created to implement a state-mandated restructuring plan that requires the corporate separation of FirstEnergy Corp.'s competitive generation activities from its transmission and distribution activities. The applicant states further that it will operate the facilities identified in the filing for the purposes of producing and selling power at wholesale.

Comment date: January 25, 2001, in accordance with Standard Paragraph E at the end of this notice. The Commission will limit its consideration of comments to those that concern the adequacy or accuracy of the application.

7. Wolverine Power Supply Cooperative, Inc.

[Docket No. ES01-14-000]

Take notice that on December 22, 2000, Wolverine Power Supply Cooperative, Inc. (Wolverine) submitted an application seeking authorization to execute a guarantee of debt in an amount not to exceed $500,000 incurred by Wolverine Power Marketing Cooperative, Inc., a distribution cooperative member of Wolverine.

Wolverine also seeks a waiver of the Commission's competitive bidding and negotiated placement requirements at 18 CFR 34.2.

Comment date: January 17, 2001, in accordance with Standard Paragraph E at the end of this notice.

8. Entergy Services, Inc., On behalf of the Entergy Operating Companies: Entergy Arkansas, Inc., Entergy Gulf States, Inc., Entergy Louisiana, Inc., Entergy Mississippi, Inc., and Entergy New Orleans, Inc.

[Docket No. RT01-75-001]

Take notice that on December 29, 2000, Entergy Services, Inc., on behalf of the Entergy Operating Companies, Entergy Arkansas, Inc., Entergy Gulf States, Inc., Entergy Louisiana, Inc., Entergy Mississippi, Inc., and Entergy New Orleans, Inc. (collectively Entergy), filed an Application for approval of Transco's rate structure pursuant to Section 205 of the Federal Power Act and Order No. 2000.

Entergy will create Transco, an independent, incentive-driven transmission company to operate under the oversight, and within the umbrella, of the Southwest Power Pool Regional Transmission Organization. Entergy also submitted for filing a Transmission Cost Transition Agreement, an Open Access Distribution Service Tariff and a Notice of Cancellation for the MSS-2 service schedule of the Entergy System Agreement.

Comment date: January 29, 2001, in accordance with Standard Paragraph E at the end of this notice.

9. Pacific Gas and Electric Company

[Docket No. ER01-783-000]

Take notice that on December 26, 2000, Pacific Gas and Electric Company (PG&E), tendered for filing a changes in rates for the Transmission Revenue Balancing Account Adjustment (TRBAA) rate set forth in its Transmission Owner Tariff (TO Tariff) and for the Reliability Services (RS) rates set forth in both its TO Tariff and its Reliability Services Tariff (RS Tariff) (certain customers' RS rates are in the TO Tariff while other customers' RS rates are in the separate RS Tariff). The TO Tariff TRBAA rate is proposed to be a negative $0.00157 per kilowatt-hour, a reduction from the present rate of negative $0.00017 per kilowatt-hour and the proposed overall average RS rates are approximately 23% lower than the currently effective rates for 2000. These changes in rates are to become effective January 1, 2001.

Copies of this filing have been served upon the California Independent System Operator, California Independent System Operator-registered Scheduling Coordinators, Southern California Edison Company, San Diego Gas and Electric Company, the California Public Utilities Commission and those parties to the official service lists in FERC Docket Nos. ER99-4323-000 and ER01-66-000.

Comment date: January 17, 2001, in accordance with Standard Paragraph E at the end of this notice.

10. Avista Corp.

[Docket No. ER01-784-000]

Take notice that on November 26, 2000, Avista Corp. (AVA), tendered for filing with the Federal Energy Regulatory Commission executed Service Agreements for Short-Term Firm and Non-Firm Point-To-Point Transmission Service under AVA's Open Access Transmission Tariff—FERC Electric Tariff, Volume No. 8 with El Paso Merchant Energy, L. P.

AVA requests the Service Agreements be given a respective effective date of December 19, 2000.

Comment date: January 17, 2001, in accordance with Standard Paragraph E at the end of this notice.

11. Cinergy Services, Inc.

[Docket No. ER01-785-000]

Take notice that on December 26, 2000, Cinergy Services, Inc. (Cinergy), tendered for filing a Network Service Agreement, Network Operating Agreement, and Specifications for Network Integration Service under Cinergy's Open Access Transmission Tariff (OATT) entered into between Cinergy and The Village of Blanchester.

An application for Network Integration Service for The Village of Blanchester, Ohio has been included as an Exhibit to the Service Agreement under OATT.

Copies of the filing were served upon The Village of Blanchester, Ohio.

Comment date: January 17, 2001, in accordance with Standard Paragraph E at the end of this notice.

12. Florida Power Corporation

[Docket No. ER01-786-000]

Take notice that on December 26, 2000, Florida Power Corporation (Florida Power), tendered for filing an executed Interconnection and Operating Agreement (Interconnection Agreement) with Vandolah Power Company, L.L.C., (Vandolah). The Interconnection Agreement was filed as a service agreement under Florida Power's open access transmission tariff (OATT), FERC Electric Tariff, First Revised Volume No. 6. The Interconnection Agreements set forth the terms and conditions governing the interconnection between Vandolah's yet-to-be constructed generating facility and the Company's transmission system, including the Company's construction of required interconnection facilities.

Florida Power requests a November 26, 2000 effective date.

Copies of the filing were served upon the El Paso Merchant Energy Company (Vandolah's partner in this generating facility project) and the Florida Public Service Commission.

Comment date: January 17, 2001, in accordance with Standard Paragraph E at the end of this notice.

13. New England Power Pool

[Docket No. ER01-787-000]

Take notice that on December 26, 2000, the New England Power Pool (NEPOOL) Participants Committee tendered for filing and acceptance materials to permit NEPOOL to expand its membership to include Calpine Energy Services, L.P. (CES) and to terminate the membership of Calpine Power Services Company (CPS).

NEPOOL requests a November 1, 2000, effective date for the commencement of CES participation in and CPS termination from NEPOOL.

The Participants Committee states that copies of these materials were sent to the New England state governors and regulatory commissions and the Participants in NEPOOL.

Comment date: January 17, 2001, in accordance with Standard Paragraph E at the end of this notice.

14. AES Medina Valley Cogen, L.L.C.

[Docket No. ER01-788-000]

Take notice that on December 26, 2000, AES Medina Valley Cogen, L.L.C. (Medina), Mossville, Illinois, tendered for filing with the Commission of a Service Agreement with Central Illinois Light Company to make energy sales pursuant to the terms of a Tolling Agreement.

Copies of the filing were served on the affected customer and the Illinois Commerce Commission.

Comment date: January 17, 2001, in accordance with Standard Paragraph E at the end of this notice.

15. PJM Interconnection, L.L.C.

[Docket No. ER01-789-000]

Take notice that on December 26, 2000, PJM Interconnection, L.L.C. (PJM), on behalf of the PJM Reliability Committee, tendered for filing amendments to Sections 1.56, 10.2, and Schedules 5.2, and 7, of the Reliability Agreement Among Load Serving Entities in the PJM Control Area (RAA) to continue the current ALM credit treatment under the RAA after the Pool-Wide Choice Date and until May 31, 2001, and to modify the definition of “Weighted Vote” and the cost sharing provisions. The entire RAA also is filed in accordance with Order No. 614.

Copies of this filing were served upon all parties to the RAA and each state electric utility regulatory commission in the PJM control area.

Comment date: January 17, 2001, in accordance with Standard Paragraph E at the end of this notice.

16. Avista Corp.

[Docket No. ER01-790-000]

Take notice that on December 26, 2000, Avista Corp., (AVA), tendered for filing with the Federal Energy Regulatory Commission executed Service Agreements for Short-Term Firm and Non-Firm Point-to-Point Transmission Service under AVA's Open Access Transmission Tariff—FERC Electric Tariff, Volume No. 8 with El Paso Merchant Energy, L.P.

AVA requests the Service Agreements be given a respective effective date of December 19, 2000

Comment date: January 17, 2001, in accordance with Standard Paragraph E at the end of this notice.

17. Allegheny Energy Supply Conemaugh, LLC

[Docket No. ER01-791-000]

Take notice that on December 26, 2000, Allegheny Energy Supply Conemaugh, LLC (Allegheny), tendered for filing a market rate tariff of general applicability under which it proposes to sell capacity and energy to affiliates and non-affiliates at market-based rates, and to make such sales to affiliates with franchised service areas at rates capped by a publicly available regional index price.

Allegheny requests an effective date no later than January 1, 2001.

Comment date: January 17, 2001, in accordance with Standard Paragraph E at the end of this notice.

18. WPS Resources Operating Companies

[Docket No. ER01-792-000]

Take notice that on December 26, 2000, WPS Resources Operating Companies (WPSR), tendered for filing Notice of Cancellation for two Long-Term Firm Point-to-Point transmission service agreements under its open access transmission tariff, First Revised Volume No. 1 (OATT): one with Consolidated Water Power Company (CWP) and one with Wisconsin Public Power, Inc., (WPPI). WPSR seeks to cancel these two service agreements because under Wisconsin's electricity restructuring, the American Transmission Company, LLC (ATCLLC) will provide transmission service to these customers effective January 1, 2001.

WPSR requests that these cancellations take effect January 1, 2001.

Copies of the filing were served upon CWP, WPPI, Manitowoc Public Utilities, ATCLLC, the Michigan Public Service Commission and the Public Service Commission of Wisconsin.

Comment date: January 17, 2001, in accordance with Standard Paragraph E at the end of this notice.

19. PacifiCorp

[Docket No. ER01-793-000]

Take notice that on December 26, 2000, PacifiCorp tendered for filing a Notice of Termination with the Federal Energy Regulatory Commission with respect to the Power Sales Agreement between PacifiCorp and Cheyenne Light, Fuel and Power Company dated June 21, 1995 (Agreement).

PacifiCorp requests that a waiver of prior notice be granted and that an effective date of December 31, 2000 be assigned to the Notice of Termination consistent with the termination date set forth in the Agreement.

Copies of this filing were supplied to Cheyenne and the Wyoming Public Service Commission.

Comment date: January 17, 2001, in accordance with Standard Paragraph E at the end of this notice.

20. Duke Electric Transmission, a division of Duke Energy Corporation

[Docket No. ER01-794-000]

Take notice that on December 27, 2000, Duke Electric Transmission (Duke ET), a division of Duke Energy Corporation tendered for filing an amendment to its open access transmission tariff, implementing interconnection procedures.

Duke requests that the proposed amendment be permitted to become effective on December 27, 2000.

Duke states that this filing is in accordance with Part 35 of the Commission's Regulations and a copy has been served on the North Carolina Utilities Commission and the South Carolina Public Service Commission.

Comment date: January 18, 2001, in accordance with Standard Paragraph E at the end of this notice.

21. American Transmission Company

[Docket No. ER01-795-000]

Take notice that on December 27, 2000, American Transmission Company LLC (ATCLLC), tendered for filing a Distribution-Transmission Interconnection Agreement between ATCLLC and Edison Sault Electric Company.

ATCLLC requests an effective date of January 1, 2001.

Comment date: January 18, 2001, in accordance with Standard Paragraph E at the end of this notice.

22. Potomac Electric Power Company

[Docket No. ER01-796-000]

Take notice that on December 27, 2000, Potomac Electric Power Company (Pepco), tendered for filing pursuant to Section 205 of the Federal Power Act an executed Interconnection Agreement (Gude Facility), dated as of December 22, 2000, between Pepco and Pacific Energy Operating Group, L.P.

Comment date: January 18, 2001, in accordance with Standard Paragraph E at the end of this notice.

23. PacifiCorp

[Docket No. ER01-797-000]

Take notice that on December 27, 2000, PacifiCorp tendered for filing in accordance with 18 CFR 35 of the Commission's Rules and Regulations, an unexecuted service agreement under its market-based tariff, PacifiCorp FERC Electric Tariff, Third Revised Volume No. 12.

PacifiCorp has requested an effective date of January 1, 2001.

Copies of this filing were supplied to the Wyoming Public Service Commission and the Public Utility Commission of Oregon.

Comment date: January 18, 2001, in accordance with Standard Paragraph E at the end of this notice.

24. PacifiCorp

[Docket No. ER01-798-000]

Take notice that on December 27, 2000, PacifiCorp, tendered for filing in accordance with 18 CFR 35 of the Commission's Rules and Regulations, revisions to Schedules 4, 7 and 8 as well as Attachment 7 to its open access transmission tariff, PacifiCorp's FERC Electric Tariff, Second Revised Volume No. 11 (Tariff). The revisions modify the procedures used in the handling of energy imbalances and transmission losses under the Tariff.

PacifiCorp has requested an effective date of January 1, 2001.

Copies of this filing were supplied to the Washington Utilities and Transportation Commission and the Public Utility Commission of Oregon.

Comment date: January 18, 2001, in accordance with Standard Paragraph E at the end of this notice.

25. Duke Energy Corporation

[Docket No. ER01-799-000]

Take notice that on December 27, 2000, Duke Energy Corporation (Duke), tendered for filing a Service Agreement with the Tennessee Valley Authority, for Firm Transmission Service under Duke's Open Access Transmission Tariff.

Duke requests that the proposed Service Agreement be permitted to become effective on November 28, 2000.

Duke states that this filing is in accordance with Part 35 of the Commission's Regulations and a copy has been served on the North Carolina Utilities Commission.

Comment date: January 18, 2001, in accordance with Standard Paragraph E at the end of this notice.

26. Duke Energy Corporation

[Docket No. ER01-800-000]

Take notice that on December 27, 2000, Duke Energy Corporation (Duke), tendered for filing a Service Agreement with Duke Energy Trading and Marketing, L.L.C. for Firm Transmission Service under Duke's Open Access Transmission Tariff.

Duke requests that the proposed Service Agreement be permitted to become effective on November 28, 2000.

Duke states that this filing is in accordance with Part 35 of the Commission's Regulations and a copy has been served on the North Carolina Utilities Commission.

Comment date: January 18, 2001, in accordance with Standard Paragraph E at the end of this notice.

27. American Electric Power Service Corporation

[Docket No. ER01-801-000]

Take notice that on December 27, 2000, American Electric Power Service Corporation (AEPSC), tendered for filing Service Agreements under its Wholesale Market Tariff pursuant to which AEPSC may make power sales to certain affiliates to enable the companies to make sales to residential, commercial, and industrial retail customers in those states that have implemented retail access programs.

AEPSC requests an effective date of December 28, 2000.

Comment date: January 18, 2001, in accordance with Standard Paragraph E at the end of this notice.

28. PECO Energy Company

[Docket No. ER01-802-000]

Take notice that on December 27, 2000, PECO Energy Company (PECO), tendered for filing under Section 205 of the Federal Power Act, 16 U.S.C. S 792 et seq., an Agreement dated December 13, 2000 with Mack Services Group (MSG) under PECO's FERC Electric Tariff Original Volume No. 1 (Tariff).

PECO requests an effective date of December 13, 2000 for the Agreement.

PECO states that copies of this filing have been supplied to Mack Services Group and to the Pennsylvania Public Utility Commission.

Comment date: January 18, 2001, in accordance with Standard Paragraph E at the end of this notice.

29. PECO Energy Company

[Docket No. ER01-803-000]

Take notice that on December 27, 2000, PECO Energy Company (PECO), tendered for filing under Section 205 of the Federal Power Act, 16 U.S.C. S 792 et seq., an Agreement dated December 21, 2000 with Louisiana Generating LLC. (LAG) under PECO's FERC Electric Tariff Original Volume No. 1 (Tariff).

PECO requests an effective date of December 21, 2000 for the Agreement.

PECO states that copies of this filing have been supplied to Louisiana Generating LLC and to the Pennsylvania Public Utility Commission.

Comment date: January 18, 2001, in accordance with Standard Paragraph E at the end of this notice.

30. PECO Energy Company

[Docket No. ER01-804-000]

Take notice that on December 27, 2000, PECO Energy Company (PECO), tendered for filing under Section 205 of the Federal Power Act, 16 U.S.C. S 792 et seq., an Agreement dated December 19, 2000 with Green Mountain Energy Company (GMEC) under PECO's FERC Electric Tariff Original Volume No. 1 (Tariff).

PECO requests an effective date of December 19, 2000, for the Agreement.

PECO states that copies of this filing have been supplied to Green Mountain Energy Company and to the Pennsylvania Public Utility Commission.

Comment date: January 18, 2001, in accordance with Standard Paragraph E at the end of this notice.

31. California Independent System Operator Corporation

[Docket No. ER01-805-000]

Take notice that on December 27, 2000, the California Independent System Operator Corporation, tendered for filing a Scheduling Coordinator Agreement between the ISO and Sempra Energy Solutions for acceptance by the Commission.

The ISO states that this filing has been served on Sempra Energy Solutions and the California Public Utilities Commission.

The ISO is requesting waiver of the 60-day notice requirement to allow the Scheduling Coordinator Agreement to be made effective as of December 18, 2000.

Comment date: January 18, 2001, in accordance with Standard Paragraph E at the end of this notice.

32. California Independent System Operator Corporation

[Docket No. ER01-806-000]

Take notice that on December 27, 2000, the California Independent System Operator Corporation (ISO), tendered for filing a Meter Service Agreement for Scheduling Coordinators between the ISO and Sempra Energy Solutions for acceptance by the Commission.

The ISO states that this filing has been served on Sempra Energy Solutions and the California Public Utilities Commission.

The ISO is requesting waiver of the 60-day notice requirement to allow the Meter Service Agreement to be made effective as of December 18, 2000.

Comment date: January 18, 2001, in accordance with Standard Paragraph E at the end of this notice.

33. Wisconsin Public Service Corporation

[Docket No. ER01-807-000]

Take notice that on December 27, 2000, Wisconsin Public Service Corporation (WPSC) tendered a Notice of Cancellation of its Rate Schedule FERC No. 57, the 1995 “Dewey Substation—Transmission Tap Payment Agreement” with Wisconsin Power and Light Company (WPL).

WPSC requests waiver of the Commission's notice requirements so that this cancellation can be made effective January 1, 2001.

Copies of the filing were served upon WPL and the state commissions of Wisconsin and Michigan.

Comment date: January 18, 2001, in accordance with Standard Paragraph E at the end of this notice.

34. Wisconsin Public Service Corporation

[Docket No. ER01-808-000]

Take notice that on December 27, 2000, Wisconsin Public Service Corporation (WPSC), tendered a Notice of Cancellation of its Rate Schedule FERC No. 45, an agreement with Wisconsin Power and Light Company (WPL) which provides for WPL to pay WPSC for WPSC's installation and construction of facilities to interconnect its Aurora Street Substation with WPL's transmission lines.

WPSC requests waiver of the Commission's notice requirements so that this cancellation can be made effective January 1, 2001.

Copies of the filing were served upon WPL, American Transmission Company, L.L.C. and the state commissions of Wisconsin and Michigan.

Comment date: January 18, 2001, in accordance with Standard Paragraph E at the end of this notice.

35. WPS Resources Operating Companies

[Docket No. ER01-809-000]

Take notice that on December 27, 2000, WPS Resources Operating Companies (WPSR), tendered for filing revised executed service agreements with Madison Gas & Electric Company (MGE) and Wisconsin Public Power, Inc. (WPPI) for ancillary and distribution services under WPSR's open access transmission tariff, FERC Electric Tariff, First Revised Volume No. 1. WPSR also submits a notice of cancellation of WPPI's prior network service agreement under WPSC's predecessor transmission tariff.

WPSR requests waiver of the Commission's notice requirements to permit these documents to become effective on January 1, 2001.

Copies of the filing were served upon MGE, WPPI, the Michigan Public Service Commission and the Public Service Commission of Wisconsin.

Comment date: January 18, 2001, in accordance with Standard Paragraph E at the end of this notice.

36. The Cincinnati Gas & Electric Company

[Docket No. ER01-810-000]

Take notice that on December 27, 2000, The Cincinnati Gas & Electric Company (CG&E), tendered for filing a Notice of Cancellation with Narrative Statement to terminate the Electric Service Agreement between CG&E and The West Harrison Gas and Electric Company (West Harrison).

CG&E requests that the termination be effective as of January 1, 2001, the date of the merger of West Harrison with PSI Energy, Inc., whereupon West Harrison will cease to exist as a legal entity.

Copies of the filing were served upon the affected customer and the Public Utilities Commission of Ohio and the Indiana Utility Regulatory Commission.

Comment date: January 18, 2001, in accordance with Standard Paragraph E at the end of this notice.

37. Allegheny Energy Supply Company, LLC

[Docket No. ER01-811-000]

Take notice that on December 27, 2000, Allegheny Energy Supply Company, LLC (AE Supply), tendered for filing proposed amendments to its market rate tariff and code of conduct all as more fully described in the Application.

AE Supply requests an effective date of December 28, 2000.

Comment date: January 18, 2001, in accordance with Standard Paragraph E at the end of this notice.

38. Geysers Power Company LLC

[Docket No. ER01-812-000]

Take notice that on December 27, 2000, Geysers Power Company, LLC (Geysers Power), tendered for filing its updated Rate Schedules for the calendar year 2001 for Reliability Must-Run services provided to the California Independent System Operator Corporation (CAISO) pursuant to the Geysers Main RMR Agreement accepted by the Commission in California ISO Corp., et al., 87 FERC ¶ 61,250 (1999).

Copies of this filing have been served upon the CAISO, the California Public Utilities Commission, and Pacific Gas and Electric Company.

Comment date: January 18, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 01-844 Filed 1-10-01; 8:45 am]

BILLING CODE 6717-01-P